SOCIAL SECURITY ADMINISTRATION

[Docket No. SSA-2006-0140]

Rescission of Social Security Ruling 87-6; Policy Interpretation Ruling; Titles II and XVI: The Role of Prescribed Treatment in the Evaluation of Epilepsy

AGENCY: Social Security Administration.

ACTION: Notice of rescission of Social Security Ruling.

SUMMARY: In accordance with 20 CFR 402.35(b)(1), the Acting Commissioner of Social Security gives notice of the rescission of Social Security Ruling (SSR) 87-6.

DATES: This rescission is effective March 3, 2017.

FOR FURTHER INFORMATION CONTACT: Cheryl A. Williams, Office of Disability Policy, Social Security Administration, 6401 Security Boulevard, Baltimore, Maryland 21235-6401, (410) 965-1020. For information on eligibility or filing for benefits, call our national toll-free number 1-800-772-1213, or TTY 1-800-325-0778, or visit our Internet site, Social Security Online, at http://www.socialsecurity.gov.

SUPPLEMENTARY INFORMATION: Through SSRs, we make available to the public precedential decisions relating to the Federal old-age, survivors, disability, supplemental security income, and special veterans benefits programs. We may base SSRs on determinations or decisions made at all levels of administrative adjudication, Federal court decisions, Commissioner's decisions, opinions of the Office of the General Counsel, and other interpretations of the law and regulations.

Under our prior listings 11.02 and 11.03, and SSR 87-6, we evaluated epilepsy according to the type, frequency, duration, and sequelae of seizures.¹ If the claimant was following prescribed treatment and his or her epilepsy did not meet or medically equal the requirements of the listings, we would assess his or her residual functional capacity and evaluate the claimant's impairments under the remaining steps of the sequential evaluation process.

¹ 20 CFR part 404, subpart P, app. 1, § 11.00A (2016).

SSR 87-6 provided guidance to adjudicators on the role of prescribed treatment in the evaluation of epilepsy. The SSR stated the file must contain adequate information regarding the history of the treatment regimen and the claimant's response to it, and a satisfactory description of the treatment regimen by the treating physician. The SSR also required a record of anticonvulsant blood levels before we could allow a claim. Under SSR 87-6, without an ongoing treating relationship, we could not find the claimant's impairment to meet or medically equal the listing for epilepsy. When anticonvulsant blood levels were low, information obtained from the treating physician should explain why the levels were low and include the results of any relevant diagnostic studies.

On July 1, 2016, we published in the Federal Register a final rule, Revised Medical Criteria for Evaluating Neurological Disorders, in which we incorporated the portions of SSR 87-6 that continue to be relevant to the treatment of epilepsy. 81 FR 43048, 43049 (2016). The final rule became effective September 29, 2016. Id., at 43048. Consequently, we are rescinding SSR 87-6 as obsolete.

(Catalog of Federal Domestic Assistance Programs Nos. 96.001, Social Security—Disability Insurance; 96.002, Social Security—Retirement Insurance; 96.004, Social Security—Survivors Insurance; 96.006—Supplemental Security Income)

Dated: February 28, 2017.
Nancy A. Berryhill,
Acting Commissioner of Social Security.

[FR Doc. 2017-04122 Filed 3-2-17; 8:45 am]

BILLING CODE 4191-02-P